COMMISSION ON CIVIL RIGHTS

Agenda and Notice of Public Meeting of the Alabama, Arkansas, Louisiana, and Mississippi State Advisory Committees

Notice is hereby given, pursuant to the provisions of the rules and regulations of the U.S. Commission on Civil Rights, that a planning and briefing meeting of the Alabama, Arkansas, Louisiana, and Mississippi Advisory Committees will be held at the Radisson Admiral Semmes Hotel, 251 Government Street, Mobile, AL 36602. The planning meeting will convene on Monday, August 23 at 1:30 p.m. and recess at 7 p.m. The public briefing meeting will convene on Tuesday, August 24 at 9 a.m. and adjourn at 12 p.m. The purpose of the meeting is to discuss the briefing transcript from the “Southern Civil Rights Listening Tour and conduct a public briefing meeting on civil rights issues.

Persons desiring additional information, or planning a presentation to the Committees should contact Farella Robinson, Civil Rights Analyst of the Central Regional Office, 913-551-1400 (TDD 913-551-1414). Hearing-impaired persons who will attend the meeting and require the services of a sign language interpreter should contact the Regional Office at least ten (10) working days before the schedule date of the meeting.

The meeting will be conducted pursuant to the provisions of the rules and regulations of the Commission.

Dated at Washington, DC, June 23, 2004.
Ivy L. Davis,
Chief, Regional Programs Coordination Unit.

[FR Doc. 04-15629 Filed 7-8-04; 8:45 am]

BILLING CODE 6335-01-P